DEPARTMENT OF THE INTERIOR

National Park Service

[NPS-WASO-NAGPRA-17979;PPWOCRADN0-PCU00RP14.R50000]

Notice of Intent To Repatriate Cultural Items: Beneski Museum of Natural History, Amherst College, Amherst, MA; Correction

AGENCY: National Park Service, Interior.

ACTION: Notice; correction.

SUMMARY: The Beneski Museum of Natural History, Amherst College has corrected a Notice of Intent to Repatriate published in the Federal Register on February 5, 2015. This notice corrects the number of unassociated funerary objects. Lineal descendants or representatives of any Indian tribe or Native Hawaiian organization not identified in this notice that wish to claim these cultural items should submit a written request to the Beneski Museum of Natural History, Amherst College. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Beneski Museum of Natural History, Amherst College at the address in this notice by May 28, 2015.

ADDRESSES: Tekla A. Harms, NAGPRA Coordinator, Beneski Museum of Natural History, Amherst College, Amherst, MA 01002, telephone (413) 542-2233, email taharms@amherst.edu.

SUPPLEMENTARY INFORMATION: Notice is here given in accordance with the Native American Graves Protection and Repatriation Act (NAGPRA), 25 U.S.C. 3005, of the intent to repatriate a cultural item under the control of the Beneski Museum of Natural History, Amherst College, Amherst, MA that meets the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

This notice corrects the number of unassociated funerary objects published in a Notice of Intent to Repatriate in the Federal Register (80 FR 6538-6539, February 5, 2015). Unrelated work in the museum collections uncovered this additional artifact incorrectly stored. Transfer of control of the items in this correction notice has not occurred.

Correction

In the Federal Register (80 FR 6539, February 5, 2015), paragraph 1, sentence 1 is corrected by substituting the following sentence:

The Beneski Museum of Natural History, Amherst College (Beneski Museum) holds 119 cultural items that are documented to have been, or can reasonably be inferred to have been unassociated funerary objects that were removed from the state of Florida.

In the Federal Register (80 FR 6539, February 5, 2015), paragraph 3, sentences 1 and 2 are corrected by substituting the following sentence:

The Beneski Museum holds 38 cultural items obtained from Clarence B. Moore of Philadelphia, most—if not all—received in 1872. These cultural items are: five stone sinkers and two shell sinkers from 3 miles east of Marco, Lee County, FL; one shell celt from near Marco, Lee County, FL; six stone sinkers or pendants, five shell sinkers or pendants, and five shell beads from Marco Island, Ten Thousand Islands, Lee County, FL; five stone sinkers or pendants, five whorled shell sinkers or pendants, one awl of whorled shell, one shell gorget, and one large shell ring from Addison's Key, near Marco, Lee County, FL; one conch shell cup from a mound on a key in Gasparilla Sound, DeSoto or Charlotte County, FL.

In the Federal Register (80 FR 6539, February 5, 2015), paragraph 8, sentence 1 is corrected by substituting the following sentence:

Multiple lines of evidence—guided by tribal consultations—including geographic, oral tradition, historical, and aboriginal land claims, demonstrate a shared group identity between these 119 cultural items and the modern-day Miccosukee Tribe of Indians; Seminole Tribe of Florida (previously listed as the Seminole Tribe of Florida (Dania, Big Cypress, Brighton, Hollywood & Tampa Reservations)); and The Seminole Nation of Oklahoma.

In the Federal Register (80 FR 6539, February 5, 2015), paragraph 8, sentence 4 is corrected by substituting the following sentence:

It is reasonable to conclude that all 119 cultural items listed here were intended to rest as funerary objects and were obtained from burial mounds.

In the Federal Register (80 FR 6539, February 5, 2015), paragraph 9, sentence 1 is corrected by substituting the following sentence:

Officials of the Beneski Museum of Natural History, Amherst College have determined that:

• Pursuant to 25 U.S.C. 3001(3)(B), the 119 cultural items described above are reasonably believed to have been placed with or near individual human remains at the time of death or later as part of the death rite or ceremony and are believed, by a preponderance of the evidence, to have been removed from a specific burial site of a Native American individual.

Additional Requestors and Disposition

Lineal descendants or representatives of any Indian tribe or Native Hawaiian organization not identified in this notice that wish to claim these cultural items should submit a written request with information in support of the claim to Tekla Harms, NAGPRA Coordinator, Beneski Museum of Natural History, Amherst College, Amherst, MA 01002, telephone (413) 542-2233, email taharms@amherst.edu, by May 28, 2015. After that date, if no additional claimants have come forward, transfer of control of the unassociated funerary object to the Miccosukee Tribe of Indians may proceed.

The Beneski Museum of Natural History, Amherst College is responsible for notifying the Miccosukee Tribe of Indians that this notice has been published.

Dated: March 20, 2015.
Mariah Soriano,
Acting Program Manager, National NAGPRA Program.

[FR Doc. 2015-09899 Filed 4-27-15; 8:45 am]

BILLING CODE 4312-50-P